DEPARTMENT OF TRANSPORTATION

Federal Aviation Administration

[Docket No. FAA-2023-2309; Summary Notice No. 2024-03]

Petition for Exemption; Summary of Petition Received; GE Aerospace

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before February 20, 2024.

ADDRESSES: Send comments identified by docket number FAA-2023-2309 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Philip Haberlen, AIR-625, Federal Aviation Administration, phone (781) 238-7770, email Philip.Haberlen@faa.gov.

This notice is published pursuant to 14 CFR 11.85.

Issued in Washington, DC, on January 25, 2024.
Daniel J. Commins,
Manager, Integration and Performance.

PETITION FOR EXEMPTION

Docket No.: FAA-2023-2309.

Petitioner: GE Aerospace.

Section(s) of 14 CFR Affected: § 33.68(e).

Description of Relief Sought: GE Aerospace, is seeking relief from 14 CFR 33.68 (e), which requires Appendix D measurements to demonstrate acceptable engine operation throughout the airplane flight envelope and the convective cloud ice crystal icing envelope. Specifically, GE Aerospace is proposing to use the Aviation Rulemaking Advisory Committee's Ice Crystal Icing Working Group draft report dated October 18, 2023, in lieu of using Appendix D to part 33 (Amendment 33-34) to demonstrate acceptable engine operation throughout the aircraft flight envelope and the convective cloud ice crystal icing envelope on its GE Catalyst 1300-CS1A engine.

[FR Doc. 2024-01835 Filed 1-30-24; 8:45 am]

BILLING CODE 4910-13-P